PENSION BENEFIT GUARANTY CORPORATION

Submission of Information Collection for OMB Review; Comment Request; Filings for Reconsideration

AGENCY: Pension Benefit Guaranty Corporation.

ACTION: Notice of request for extension of OMB approval of information collection.

SUMMARY: The Pension Benefit Guaranty Corporation (PBGC) is requesting that the Office of Management and Budget (OMB) extend approval, under the Paperwork Reduction Act of a collection of information for filings for reconsideration under its regulation on Rules for Administrative Review of Agency Decisions. This notice informs the public of PBGC's request and solicits public comment on the collection of information.

DATES: Comments must be submitted on or before August 15, 2022.

ADDRESSES: Written comments and recommendations for the proposed information collection should be sent within 30 days of publication of this notice to www.reginfo.gov/PRAMain. Find this particular information collection by selecting “Currently under 30-day Review—Open for Public Comments” or by using the search function. A copy of the request will be posted on PBGC's website at https://www.pbgc.gov/prac/laws-and-regulation/federal-registernotices-open-for-comment. It may also be obtained without charge by writing to the Disclosure Division of the Office of the General Counsel of PBGC, 1200 K Street NW, Washington, DC 20005-4026; or, calling 202-229-4040 during normal business hours. If you are deaf, hard of hearing, or have a speech disability, please dial 7-1-1 to access telecommunications relay services.

FOR FURTHER INFORMATION CONTACT: Karen Levin (levin.karen@pbgc.gov), Attorney, Regulatory Affairs Division, Office of the General Counsel, Pension Benefit Guaranty Corporation, 1200 K Street NW, Washington, DC 20005-4026; 202-229-3559. If you are deaf, hard of hearing, or have a speech disability, please dial 7-1-1 to access telecommunications relay services.

SUPPLEMENTARY INFORMATION: The Pension Benefit Guaranty Corporation (PBGC) intends to request that the Office of Management and Budget (OMB) extend approval, under the Paperwork Reduction Act, of a collection of information contained in its regulation on Rules for Administrative Review of Agency Decisions (29 CFR part 4003) (OMB control number 1212-0063; expires August 31, 2022). This notice informs the public of PBGC's request and solicits public comment on the collection of information.

PBGC's regulation on Rules for Administrative Review of Agency Decisions (29 CFR part 4003) prescribes rules governing the issuance of initial determinations by PBGC and the procedures for requesting and obtaining administrative review of initial determinations. Certain types of initial determinations are subject to reconsideration, which are covered in subpart C of the regulation. Subpart C prescribes rules on who may request reconsideration, when to make a reconsideration request, where to submit the request, the form and contents of reconsideration requests, and final decisions on reconsideration requests.

Any person aggrieved by an initial determination of PBGC under § 4003.1(d)(1) (determinations with respect to premiums, interest, and late payment penalties under section 4007 of ERISA), § 4003.1(d)(2) (determinations concerning voluntary terminations), or 4003.1(d)(3) (determinations with respect to penalties under section 4071 of ERISA) may request reconsideration of the initial determination. Most requests for reconsideration have been filed by plan administrators under § 4003.1(d)(1) relating to premiums, interest, and late payment penalties.

Requests for reconsideration must be in writing, be clearly designated as requests for reconsideration, contain a statement of the grounds for reconsideration and the relief sought, and contain or reference all pertinent information. Requests for reconsideration may be filed by hand, mail, commercial delivery service, or email.

The collection of information under the regulation has been approved under OMB control number 1212-0063 (expires August 31, 2022). On May 2, 2022, PBGC published in the Federal Register (at 87 FR 25681) a notice informing the public of its intent to request an extension of this collection of information, as modified. No comments were received. PBGC is requesting that OMB extend approval of the collection without change. An agency may not conduct or sponsor, and a person is not required to respond to, a collection of information unless it displays a currently valid OMB control number.

PBGC estimates that each year an average of 121 persons per year will respond to this collection of information. The total estimated average annual burden of the collection of information is about one-half hour and $500 per respondent, with an average total annual burden of approximately 64 hours and about $60,550.

Issued in Washington, DC.
Stephanie Cibinic,
Deputy Assistant General Counsel for Regulatory Affairs, Pension Benefit Guaranty Corporation.

[FR Doc. 2022-15093 Filed 7-13-22; 8:45 am]

BILLING CODE 7709-02-P